DEPARTMENT OF ENERGY

Federal Energy Regulatory Commission

[Docket No. EG02-54-000, et al.]

TXU Generation Company LP, et al.; Electric Rate and Corporate Regulation Filings

December 28, 2001.

Take notice that the following filings have been made with the Commission. Any comments should be submitted in accordance with Standard Paragraph E at the end of this notice.

1. TXU Generation Company LP

[Docket No. EG02-54-000]

Take notice that on December 18, 2001, TXU Generation Company LP (TXU Generation) tendered for filing with the Federal Energy Regulatory Commission (Commission) an application for determination of exempt wholesale generator status pursuant to Part 365 of the Commission's regulations.

Comment Date: January 18, 2002. The Commission will limit its consideration of comments to those that concern the adequacy or accuracy of the application.

2. Yuba City Energy Center, LLC

[Docket No. EG02-59-000]

Take notice that on December 21, 2001, Yuba City Energy Center, LLC (Yuba City) filed with the Federal Energy Regulatory Commission (Commission) an application for determination of exempt wholesale generator status pursuant to part 365 of the Commission's regulations.

Yuba City, a Delaware limited liability company, proposes to own and operate one 48.7 MW simple cycle natural gas-fired combustion turbine peaking unit to be located in Yuba City, California. Yuba City will sell the output at wholesale to Calpine Energy Services, L.P.

Comment Date: January 18, 2002. The Commission will limit its consideration of comments to those that concern the adequacy or accuracy of the application.

3. ISO New England Inc.

[Docket No. EL00-62-041]

Take notice that on December 20, 2001, ISO New England Inc. (the ISO) tendered for filing with the Federal Energy Regulatory Commission (Commission), a compliance report on its Load Response Program and the addition of new generation in New England pursuant to the Commission's November 20, 2001 Order, 96 FERC ¶ 61,234 (2001).

Comment Date: January 22, 2002.

4. System Energy Resources, Inc.

[Docket No. ER95-1042-005]

Take notice that on December 21, 2001, Entergy Services, Inc. (Entergy Services), as agent for System Energy Resources, Inc. (SERI), submitted for filing with the Federal Energy Regulatory Commission (Commission) a refund report in compliance with the Commission's July 31, 2000 Order, 92 FERC ¶ 61,119.

Comment Date: January 11, 2002.

5. Allegheny Energy Service Corporation on behalf of Allegheny Energy Supply Company, LLC

[Docket No. ER02-592-000]

Take notice that on December 21, 2001, Allegheny Energy Service Corporation on behalf of Allegheny Energy Supply Company, LLC (Allegheny Energy Supply) filed Service Agreement No. 153 to add one (1) new Customer to the Market Rate Tariff under which Allegheny Energy Supply offers generation services. Allegheny Energy Supply proposes to make service available as of November 30, 2001 to Dominion Nuclear Marketing II, Inc.

Comment Date: January 11, 2002.

6. Southern Company Services, Inc.

[Docket No. ER02-593-000]

Take notice that on December 21, 2001, Southern Company Services, Inc. (SCS), acting on behalf of Alabama Power Company, Georgia Power Company, Gulf Power Company, Mississippi Power Company (MPC), and Savannah Electric and Power Company (collectively referred to as Southern Companies), filed eight (8) agreements for network integration transmission service between Southern Companies and Energy Marketing, a department of SCS, as agent for MPC, under the Open Access Transmission Tariff of Southern Companies (FERC Electric Tariff, Fourth Revised Volume No. 5) for the delivery of power to the following delivery points all of which are member cooperatives of South Mississippi Electric Power Association (SMEPA): (1) Coast EPA's Wellman Delivery Point; (2) Singing River EPA's Monaca Lake Substation; (3) Singing River EPA's Hamill Farm Road Delivery Point; (4) Pearl River Valley EPA's OLOH Delivery Point; (5) Singing River EPA's Martin Bluff Road Delivery Point; (6) Coast EPA's Necaise Delivery Point; (7) Pearl River Valley EPA's Hattiesburg Industrial Park Delivery Point; and (8) Singing River EPA's South Lucedale Delivery Point. These agreements are being filed in conjunction with a power sale by SCS, as agent for MPC, to SMEPA under Southern Companies' Market-Based Rate Power Sales Tariff.

Comment Date: January 11, 2002.

7. PJM Interconnection, L.L.C.

[Docket No. ER02-594-000]

Take notice that on December 21, 2001, PJM Interconnection, L.L.C. (PJM), tendered for filing the following executed agreements: (i) a non-firm point-to-point transmission service agreement with WPS Westwood Generation, L.L.C. (WPS Westwood); and (ii) a non-firm point-to-point transmission service agreement with Sunbury Generation, L.L.C. (Sunbury). Copies of this filing were served upon WPS Westwood and Sunbury, and the state commissions within the PJM control area.

PJM requests a waiver of the Federal Energy Regulatory Commission notice requirements to permit an effective date of December 7, 2001, the date the agreements were executed.

Comment Date: January 11, 2002.

8. PJM Interconnection, L.L.C.

[Docket No. ER02-595-000]

Take notice that on December 21, 2001, PJM Interconnection, L.L.C. (PJM), tendered for filing: an executed network integration transmission service agreement with FirstEnergy Solutions Corporation (FirstEnergy). Copies of this filing were served upon FirstEnergy, and the state commissions within the PJM control area.

PJM requested a waiver of the Federal Energy Regulatory Commission's notice requirements to permit an effective date for the agreement of December 1, 2001, the date service under the agreement commenced.

Comment Date: January 11, 2002.

9. Southwest Power Pool, Inc.

[Docket No. ER02-596-000]

Take notice that on December 21, 2001, Southwest Power Pool, Inc. (SPP) submitted for filing an executed service agreement for Firm Point-to-Point Transmission Service with Southwestern Public Service Company (Transmission Customer). A copy of this filing was served on the Transmission Customer.

SPP requests an effective date of January 1, 2002 for this service agreement.

Comment Date: January 11, 2002.

10. PJM Interconnection, L.L.C.

[Docket No. ER02-597-000]

Take notice that on December 21, 2001, PJM Interconnection, L.L.C. (PJM), at the request of, and on behalf of PPL Electric Utilities Corporation (PPL Electric) submitted for filing an Attachment H-8A to the PJM Open Access Transmission Tariff (PJM Tariff) and an agency agreement between PJM and PPL Electric. Attachment H-8A supplements Attachment H-8 to the PJM Tariff and sets forth “Other Supporting Facilities Charges” for transmission of service to certain municipal and cooperative customers utilizing PPL Electric's facilities at the primary voltage level of 12 kV. Because PJM does not have operational control over PPL Electric's facilities at voltage levels below 69 kV, the submitted agency agreement permits PJM to act as PPL Electric's agent for the purpose of executing service agreements with customers taking transmission service using PPL Electric's facilities at the primary voltage level of 12 kV and for performing tariff administration duties relating to such service.

At PPL Electric's request, PJM requests a waiver of the Federal Energy Regulatory Commission's notice requirements to permit an effective date of February 1, 1999, or in the alternative December 1, 2001, which is thirty days of the date of the filing.

Copies of this filing were served upon all affected customers and on the Pennsylvania Public Utility Commission.

Comment Date: January 11, 2002.

11. Soyland Power Cooperative, Inc.

[Docket No. ER02-598-000]

Take notice that on December 21, 2001, Soyland Power Cooperative, Inc. (Soyland) tendered for filing with the Federal Energy Regulatory Commission (Commission) proposed changes to its Rate Schedule A, designated as Supplement No. 2 to its Rate Schedules.

Soyland requests an effective date of January 1, 2002 for the proposed changes to its Rate Schedule A. Accordingly, Soyland requests waiver of the Commission's regulations. Rate Schedule A is the formulary rate under which Soyland recovers the costs associated with it service to its Members pursuant to the Wholesale Power Contract that Soyland has with each Member.

Comment Date: January 11, 2002.

12. California Independent System Operator Corporation

[Docket No. ER02-599-000]

Take notice that the California Independent System Operator Corporation (ISO), on December 21, 2001, submitted an informational filing as to the new transmission Access Charge rates that will be in effect on January 1, 2002.

The ISO states that this filing has been served the Public Utilities Commission of California, the California Energy Commission, the California Electricity Oversight Board, and all parties, including Vernon, with effective Scheduling Coordinator Agreements under the ISO Tariff.

Comment Date: January 11, 2002.

13. Western Systems Power Pool, Inc.

[Docket No. ER02-601-000]

Take notice that on December 21, 2001, the Western Systems Power Pool, Inc. (WSPP) submitted changes to the WSPP Agreement that modified certain commercial terms pertaining to the sale of power. WSPP seeks an effective date of March 1, 2002, for these changes.

Copies of this filing have been served on all state commissions within the United States. This filing also has been posted on the WSPP homepage (www.wspp.org) thereby providing notice to all WSPP members.

Comment Date: January 11, 2002.

14. Delta Energy Center, LLC

[Docket No. ER02-600-000]

Take notice that on December 21, 2001, Delta Energy Center, LLC, (the Applicant) tendered for filing, under section 205 of the Federal Power Act (FPA), a request for authorization to make wholesale sales of electric energy, capacity and ancillary services at market-based rates, to reassign transmission capacity, and to resell firm transmission rights. Applicant proposes to construct, own and operate a 880-megawatt electric generation facility located in Contra Costa County, California.

Comment Date: January 11, 2002.

15. American Electric Power Service Corporation

[Docket No. ER02-602-000]

Take notice that on December 21, 2001, the American Electric Power Service Corporation (AEPSC), submitted and requested acceptance of a Notice of Cancellation for each ERCOT Ancillary Service Agreement made pursuant to the AEP Companies' Open Access Transmission Service Tariff (OATT). The OATT has been designated as the Operating Companies of the American Electric Power System FERC Electric Tariff, Second Revised Volume No. 6.

AEP respectfully requests that the Commission waive its usual minimum notice requirements, and any other requirements of its Rules and Regulations with which this filing may not comply, and accept the notices of cancellation for these agreements to be effective January 1, 2002, or the earliest permissible date thereafter.

A copy of the filing was served upon the Parties and the state utility regulatory commissions of Arkansas, Indiana, Kentucky, Louisiana, Michigan, Ohio, Oklahoma, Tennessee, Texas, Virginia and West Virginia.

Comment Date: January 11, 2002.

16. Entergy Services, Inc.

[Docket No. RT01-75-001]

Take notice that on December 20, 2001, Entergy Services, Inc., on behalf of the Entergy Operating Companies, Entergy Arkansas, Inc., Entergy Gulf States, Inc., Entergy Louisiana, Inc., Entergy Mississippi, Inc., and Entergy New Orleans, Inc. (collectively Entergy), filed a notice of withdrawal of its application for approval of the Transco transmission rate structure filed with the Federal Energy Regulatory Commission on December 29, 2000 in Docket No. RT01-75-001.

Entergy has served a copy of this filing on all parties listed on the service list in Docket No. RT01-75-001.

Comment Date: January 10, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 02-214 Filed 1-3-02; 8:45 am]

BILLING CODE 6717-01-P